DEPARTMENT OF ENERGY

Federal Energy Regulatory Commission

[Docket No. RP19-1523-000]

Panhandle Eastern Pipe Line Company, LP; Notice of Technical Conference

Take notice that a technical conference will be held on Wednesday, October 30, 2019 at 10:00 a.m. (Eastern Daylight Time), in a room to be designated, at the offices of the Federal Energy Regulatory Commission (Commission), 888 First Street NE, Washington DC 20426.

At the technical conference, the Commission Staff and the parties to the proceeding should be prepared to discuss all issues raised by the filing and set for technical conference by the Commission in its September 30, 2019 order.¹ All interested persons are permitted to attend.

¹ Panhandle Eastern Pipe Line Co., LP, 168 FERC 61,208, at P 26 (2019).

Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference please contact Catherine Liow at 202-502-6459 or Catherine.Liow@ferc.gov.

Dated: October 4, 2019.
Nathaniel J. Davis, Sr.,
Deputy Secretary.

[FR Doc. 2019-22180 Filed 10-9-19; 8:45 am]

BILLING CODE 6717-01-P